NATIONAL TRANSPORTATION SAFETY BOARD

Sunshine Act Meeting Notice

Agenda

TIME AND PLACE: 9:30 a.m., Tuesday, May 14, 2002.

PLACE: NTSB Conference Center, 429 L'Enfant Plaza S.W., Washington, DC 20594.

STATUS: The two items are Open to the Public.

MATTERS TO BE CONSIDERED: 5299H—Most Wanted Safety Recommendations Program—2002 Update.

7465—Highway Accident Report—Work Zone Collision Between a Tractor-Semitrailer and a Tennessee Highway Patrol Vehicle in Jackson, Tennessee, on July 26, 2000.

News Media Contact: Telephone: (202) 314-6100.

Individuals requesting specific accommodations should contact Ms. Carolyn Dargan at (202) 314-6305 by Friday, May 10, 2002.

FOR FURTHER INFORMATION CONTACT: Vicky D'Onofrio, (202) 314-6410.

Dated: May 3, 2002.
Vicky D'Onofrio,
Federal Register Liaison Officer.

[FR Doc. 02-11517 Filed 5-3-02; 3:48 pm]

BILLING CODE 7533-01-M